SMALL BUSINESS ADMINISTRATION

Region III—Charleston, WV; Regulatory Fairness Hearing

AGENCY: U.S. Small Business Administration (SBA).

ACTION: Notice of open Hearing of Region III Small Business Owners in Charleston, WV.

SUMMARY: The SBA, Office of the National Ombudsman is issuing this notice to announce the location, date and time of the Charleston, WV Regulatory Fairness Hearing. This hearing is open to the public.

DATES: The hearing will be held on Friday, February 19, 2016, from 9:30 a.m. to 12:30 p.m. (EST).

ADDRESSES: The hearing will be at the Charleston Area Alliance, 1116 Smith Street, Charleston, WV 25301.

FOR FURTHER INFORMATION CONTACT: The hearing is open to the public; however, advance notice of attendance is requested. Anyone wishing to attend and/or make a presentation at the Charleston, WV hearing must contact Yolanda Swift by February 15th in writing or by fax or email in order to be placed on the agenda. For further information, please contact Yolanda Swift, Deputy National Ombudsman, Office of the National Ombudsman, 409 3rd Street SW., Suite 3316, Washington, DC 20416, by phone (202) 205-6918 and fax (202) 481-6128. Additionally, if you need accommodations because of a disability, translation services, or require additional information, please contact Yolanda Swift as well.

For more information on the Office of the National Ombudsman, see our Web site at www.sba.gov/ombudsman.

SUPPLEMENTARY INFORMATION: Pursuant to the Small Business Regulatory Enforcement Fairness Act (Pub. L. 104-121), Sec. 222, SBA announces the hearing for Small Business Owners, Business Organizations, Trade Associations, Chambers of Commerce and related organizations serving small business concerns to report experiences regarding unfair or excessive Federal regulatory enforcement issues affecting their members.

Dated: January 20, 2016.
Miguel J. L'Heureux,
SBA Committee Management Officer.

[FR Doc. 2016-01878 Filed 2-1-16; 8:45 am]

BILLING CODE P